ENVIRONMENTAL PROTECTION AGENCY

[EPA-HQ-OPP-2007-2006-0983; FRL-8143-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period October 1, 2006 to December 31, 2006 to control unforeseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-8179.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under docket identification (ID) number EPA-HQ-OPP-2006-0983. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the Federal Register listings at http://www.epa.gov/fedrgstr.

II. Background

EPA has granted or denied emergency exemptions to the following State and Federal agencies. The emergency exemptions may take the following form: Crisis, public health, quarantine, or specific. EPA has also listed denied emergency exemption requests in this notice.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arizona

Department of Agriculture

Specific Exemption:EPA authorized the use of coumaphos in beehives to control varroa mites and small hive beetles; November 6, 2006 to February 1, 2007. Contact: Stacey Groce.

California

Environmental Protection Agency, Department of Pesticide Regulation

Specific Exemptions: EPA authorized the use of thiophanate-methyl on mushroom to control green mold; October 26, 2006 to October 26, 2007. Contact: Andrea Conrath.

EPA authorized the use of thiabendazole on Brussels sprout, cabbage, and cauliflower to control black leg disease (Phoma lingam); November 17, 2006 to November 17, 2007. Contact: Stacey Groce.

Colorado

Department of Agriculture

Specific Exemption:EPA authorized the use of clothianidin as a seed treatment on sugarbeet seeds to control beet leafhopper (beet curly top virus); December 19, 2006 to July 31, 2007. Contact: Stacey Groce.

Georgia

Department of Agriculture

Specific Exemption:EPA authorized the use of coumaphos in beehives on December 20, 2006 to control varroa mite and small hive beetle; Effective February 2, 2007 to February 1, 2008. Contact: Stacey Groce.

Denial: On November 21, 2006 EPA denied the use of pyridalyl on brassica leafy vegetables to control diamondback moths. This request was denied because available data indicate that pyridalyl is persistent, bioaccumulative, and toxic (PBT). The bioaccumulative potential for pyridalyl exceeds the parameters for EPA's models designed to assess bioaccumulation. Contact: Andrea Conrath.

Idaho

Department of Agriculture

Specific Exemption:EPA authorized the use of flufenacet, coformulated with metribuzin, on wheat to control Italian ryegrass or annual ryegrass (Lolium multiflorum); October 2, 2006 to December 31, 2006. Contact: Andrew Ertman.

Ohio

Department of Agriculture

Denial: On November 6, 2006 EPA denied the use of s-metolachlor on leafy greens and herbs to control common purslane and prostrate pigweed. This request was denied because the situation as described in the application does not meet the criteria for an emergency because the Agency was unable to identify the non-routine aspect of the weed problem on leafy greens and herbs in Ohio. Contact: Andrew Ertman.

Oregon

Department of Agriculture

Specific Exemptions:EPA authorized the use of flufenacet, co-formulated with metribuzin on wheat to control Italian ryegrass or annual ryegrass: (Lolium multiflorum); October 2, 2006 to December 31, 2006. Contact: Andrew Ertman.

EPA authorized the use of thiophanate-methyl on mushrooms to control green mold (Sclerotinia sclerotiorum); October 26, 2006 to October 26, 2007. Contact: Andrea Conrath.

EPA authorized the use of clothianidin on sugar beets to control beet leafhopper; December 19, 2006 to July 31, 2007. Contact: Stacey Groce.

Texas

Department of Agriculture

Specific Exemption:EPA authorized the use of dinotefuran on brassica leafy green vegetables to control white flies; December 18, 2006 to April 30, 2007. Contact: Andrea Conrath.

Washington

Department of Agriculture

Specific Exemptions:EPA authorized the use of flufenacet co-formulated with metribuzin on wheat to control Italian ryegrass or annual ryegrass (Lolium multiflorum); October 2, 2006 to December 31, 2006. Contact: Andrew Ertman.EPA authorized the use of thiabendazole as a seed treatment on Brussels sprout, cabbage, and cauliflower seeds to control black leg disease (Phoma lingam); November 17, 2006 to November 17, 2007. Contact: Stacey Groce.

Wisconsin

Department of Agriculture, Trade, and Consumer Protection

Specific Exemptions:EPA authorized the use of thymol in beehives to control varroa mites; October 4, 2006 to March 15, 2007. Contact: Stacey Groce.

EPA authorized the use of anthraquinone on corn seed to control (repel) sandhill cranes; on November 27, 2006. Effective January 31, 2007 to October 31, 2007. Contact: Marcel Howard.

Wyoming

Department of Agriculture

Specific Exemption:EPA authorized the use of clothianidin as a seed treatment on sugar beet seeds to control beet leafhopper (beet curly top virus); December 19, 2006 to July 31, 2007. Contact: Stacey Groce.

B. Federal Departments and Agencies

Interior Department

Public Health Exemption: EPA authorized the use of sodium hypochlorite on items potentially contaminated with Bacillus anthracis spores on reusable equipment such as respirators and other personal protective equipment, hard non porous surfaces, and wastewater, to inactivate potential contamination with anthrax spores; December 7, 2006 to March 7, 2007. The Boca Building was closed by the Palm Beach County Department of Health on October 7, 2001 after two employees were admitted to the hospital with anthrax. The inside of the building was fumigated in July 2004, and an environmental clearance sampling was performed inside the building to verify the effectiveness of the contamination. Contact: Andrew Ertman.

List of Subjects

Environmental protection, Pesticides and pests.

Dated: August 9, 2007.
Donald R. Stubbs,
Acting Director, Registration Division, Office of Pesticide Programs.

FR Doc. E7-16562 Filed 8-21-07; 8:45 am

BILLING CODE 6560-50-S